ENVIRONMENTAL PROTECTION AGENCY

[R08-CO-2011-0001; FRL-9447-1]

Adequacy Determination for Colorado Springs, Cañon City, Greeley, Pagosa Springs, and Telluride; Carbon Monoxide and PM10 Maintenance Plans' Motor Vehicle Emissions Budgets for Transportation Conformity Purposes; State of Colorado

AGENCY: Environmental Protection Agency (EPA).

ACTION: Notice of adequacy.

SUMMARY: In this notice, EPA is notifying the public that the Agency has found the following State Implementation Plan (SIP) submittals adequate for transportation conformity purposes: “Revised Carbon Monoxide Attainment/Maintenance Plan Colorado Springs Attainment/Maintenance Area” and “Revised Carbon Monoxide Maintenance Plan Greeley Attainment/Maintenance Area.” In addition, EPA is notifying the public that the Agency has found the following SIP submittals and their respective motor vehicle emissions budgets adequate for transportation conformity purposes: “PM10 Maintenance Plan for Cañon City,” “Final Revised PM10 Maintenance Plan for the Pagosa Springs Attainment/Maintenance Area,” and “Revised PM10 Attainment/Maintenance Plan Telluride Attainment/Maintenance Area.” (PM10 refers to particulate matter less than or equal to 10 microns in size.) Once this finding becomes effective, the Pikes Peak Area Council of Governments (PPACG), the North Front Range Metropolitan Planning Organization (NFRMPO), the Colorado Department of Transportation, and the U.S. Department of Transportation are required to use the relevant motor vehicle emissions budgets for future transportation conformity determinations.

DATES: This finding is effective August 17, 2011.

FOR FURTHER INFORMATION CONTACT: Tim Russ, Air Program, Mailcode 8P-AR, Environmental Protection Agency, Region 8, 1595 Wynkoop Street, Denver, Colorado 80202-1129, telephone number (303) 312-6479, fax number (303) 312-6064, or e-mail russ.tim@epa.gov.

SUPPLEMENTARY INFORMATION: Throughout this document, whenever “we,” “us,” or “our,” are used, we mean EPA.

Transportation conformity is required by section 176(c) of the Clean Air Act (CAA). The conformity rule provisions at 40 CFR part 93 require that transportation plans, programs, and projects conform to SIPs and establish the criteria and procedures for determining whether or not they do. Conformity to a SIP means that transportation activities will not produce new air quality violations, worsen existing violations, or delay timely attainment of the National Ambient Air Quality Standard (NAAQS).

The criteria by which we determine whether a SIP's motor vehicle emissions budget (MVEB) is adequate for conformity purposes are outlined in 40 CFR 93.118(e)(4), which was promulgated August 15, 1997 (62 FR 43780). We described our process for determining the adequacy of submitted SIP MVEBs in our July 1, 2004 Transportation Conformity Rule Amendments (69 FR 40004). In addition, in certain areas with monitored ambient carbon monoxide values significantly below the NAAQS, EPA has allowed states to use limited maintenance plans (LMPs), which contain no future year maintenance projections and, therefore, no MVEBs. (See “Limited Maintenance Plan Option for Nonclassifiable CO Nonattainment Areas,” signed by Joseph Paisie, Group Leader, Integrated Policy and Strategies Group (MD-15), October 6, 1995, also known as EPA's “LMP Policy.”) In an area covered by an approved LMP, the Regional Transportation Plan (RTP) and Transportation Improvement Program (TIP) are presumed to automatically satisfy the emissions budget test requirement, and no regional emissions analysis with respect to a MVEB under sections 40 CFR 93.118 or 93.119 (i.e., MVEB(s), build less than no-build, or build less than base year) of the conformity rule is required for RTP and TIP conformity. We used these resources in making our adequacy determinations announced in this notice.

This notice is simply an announcement of findings that we have already made and are as described below:

Colorado Springs (Carbon Monoxide): The State submitted the “Revised Carbon Monoxide Attainment/Maintenance Plan Colorado Springs Attainment/Maintenance Area” on March 31, 2010. The State prepared the submittal to meet the requirements of section 175A(b) of the CAA for a second 10-year maintenance plan and used, as appropriate, the provisions of EPA's LMP policy. Thus, the LMP contains no MVEB. EPA sent a letter to the Colorado Department of Public Health and Environment (CDPHE) on March 3, 2011, stating that the submitted Colorado Springs second 10-year maintenance plan was adequate for transportation conformity purposes. We note that we posted the “Revised Carbon Monoxide Attainment/Maintenance Plan Colorado Springs Attainment/Maintenance Area” for adequacy review on EPA's transportation conformity Web site on November 10, 2010. The public comment period closed on December 10, 2010, and we did not receive any comments in response to the adequacy review posting (see http://www.epa.gov/otaq/stateresources/transconf/currsips.htm#co-springs).

Greeley (Carbon Monoxide): The State submitted the “Revised Carbon Monoxide Maintenance Plan Greeley Attainment/Maintenance Area” on March 31, 2010. The State prepared the submittal to meet the requirements of section 175A(b) of the CAA for a second 10-year maintenance plan and used, as appropriate, the provisions of EPA's LMP policy. Thus, the LMP contains no MVEB. EPA sent a letter to CDPHE on March 4, 2011, stating that the submitted Greeley second 10-year maintenance plan was adequate for transportation conformity purposes. We note that we posted the “Revised Carbon Monoxide Maintenance Plan Greeley Attainment/Maintenance Area” for adequacy review on EPA's transportation conformity Web site on November 10, 2010. The public comment period closed on December 10, 2010, and we did not receive any comments in response to the adequacy review posting (see http://www.epa.gov/otaq/stateresources/transconf/currsips.htm#greeley).

Cañon City (PM10): The State submitted the “PM10 Maintenance Plan for Cañon City” on June 18, 2009. The State prepared the submittal to meet the requirements of section 175A(b) of the CAA for a second 10-year maintenance plan. EPA sent a letter to CDPHE on May 4, 2011, stating that the submitted Cañon City PM10 second 10-year maintenance plan and the 2020 PM10 MVEB were adequate for transportation conformity purposes. We note that we posted the “PM10 Maintenance Plan for Cañon City” for adequacy review on EPA's transportation conformity Web site on March 15, 2011. The public comment period closed on April 14, 2011, and we did not receive any comments in response to the adequacy review posting (see http://www.epa.gov/otaq/stateresources/transconf/currsips.htm#canon).

Pagosa Springs (PM10): The State submitted the “Final Revised PM10 Maintenance Plan for the Pagosa Springs Attainment/Maintenance Area” on March 31, 2010. The State prepared the submittal to meet the requirements of section 175A(b) of the CAA for a second 10-year maintenance plan. EPA sent a letter to CDPHE on March 17, 2011, stating that the submitted Pagosa Springs PM10 second 10-year maintenance plan and the 2021 PM10 MVEB were adequate for transportation conformity purposes. We note that we posted the “Final Revised PM10 Maintenance Plan for the Pagosa Springs Attainment/Maintenance Area” for adequacy review on EPA's transportation conformity Web site on November 22, 2010. The public comment period closed on December 22, 2010, and we did not receive any comments in response to the adequacy review posting (see http://www.epa.gov/otaq/stateresources/transconf/currsips.htm#pagosa).

Telluride (PM10): The State submitted the “Revised PM10 Attainment/Maintenance Plan Telluride Attainment/Maintenance Area” on March 31, 2010. The State prepared the submittal to meet the requirements of section 175A(b) of the CAA for a second 10-year maintenance plan. EPA sent a letter to CDPHE on March 21, 2011, stating that the submitted Telluride PM10 second 10-year maintenance plan and the 2021 PM10 MVEB were adequate for transportation conformity purposes. We note that we posted the “Revised PM10 Attainment/Maintenance Plan Telluride Attainment/Maintenance Area” for adequacy review on EPA's transportation conformity Web site on November 22, 2010. The public comment period closed on December 22, 2010, and we did not receive any comments in response to the adequacy review posting (see http://www.epa.gov/otaq/stateresources/transconf/currsips.htm#telluride).

The MVEBs we found adequate are presented in the following table:

Area of applicability | CO emissions (tons per day) | 2020 PM10 emissions (pounds per day) | 2021 PM10 emissions (pounds per day)
Colorado Springs (CO) | N/A ¹ |  |
Greeley (CO) | N/A ¹ |  |
Cañon City (PM10) |  | 1613 |
Pagosa Springs (PM10) |  |  | 946
Telluride (PM10) |  |  | 1108
¹ LMP area—no MVEB required. Prior MVEBs may apply, as described in our adequacy letters to the State.

Please note that our adequacy review described above is separate from our rulemaking action on the five maintenance plans discussed above and should not be used to prejudge our ultimate approval or disapproval of each of the SIP revisions. Even if we find a maintenance plan or a maintenance plan and its MVEB adequate for transportation conformity purposes, we may later disapprove the SIP revision.

Authority: 42 U.S.C. 7401 et seq.

Dated: July 25, 2011.
James B. Martin,
Regional Administrator, Region 8.

[FR Doc. 2011-19524 Filed 8-1-11; 8:45 am]

BILLING CODE 6560-50-P